DEPARTMENT OF HEALTH AND HUMAN SERVICES

Nominations to the Advisory Committee on Blood and Tissue Safety and Availability

AGENCY: Office of the Assistant Secretary for Health, Office of the Secretary, Department of Health and Human Services.

ACTION: Notice.

SUMMARY: The Office of the Assistant Secretary for Health (OASH) is seeking nominations of qualified individuals to be considered for appointment to the Advisory Committee on Blood and Tissue Safety and Availability (ACBTSA). The ACBTSA is a federal advisory committee within the Department of Health and Human Services. Management support for the activities of this Committee is the responsibility of the OASH. The qualified individuals will be nominated to the Secretary of Health and Human Services for consideration of appointment as members of the ACBTSA. Members of the Committee, including the Chair, are appointed by the Secretary. Members are invited to serve on the Committee for up to four-year terms.

DATES: All nominations must be received not later than 4:00 p.m. EDT on March 15, 2013, at the address listed below.

ADDRESSES: All nominations should be mailed or delivered to Mr. James Berger, Senior Advisor for Blood Policy; Division of Blood and Tissue Safety and Availability, Office of HIV/AIDS and Infectious Disease Policy, Office of the Assistant Secretary for Health; Department of Health and Human Services; 1101 Wootton Parkway, Suite 250; Rockville, MD 20852. Telephone: (240) 453-8803.

FOR FURTHER INFORMATION CONTACT: Mr. James Berger, Senior Advisor for Blood Policy. Contact information for Mr. Berger is provided above.

A copy of the Committee charter and roster of the current membership can be obtained by contacting Mr. Berger or by accessing the ACBTSA Web site at http://www.hhs.gov/bloodsafety.http://www.hhs.gov/bloodsafety.

SUPPLEMENTARY INFORMATION: The ACBTSA provides advice to the Secretary, through the Assistant Secretary for Health. The Committee provides advice on a range of policy issues to include: (1) Identification of public health issues through surveillance of blood, and tissue safety issues with national biovigilance data tools; (2) identification of public health issues that effect availability of blood, blood products, and tissues; (3) broad public health, ethical and legal issues related to the safety of blood, blood products, and tissues; (4) the impact of various economic factors (e.g., product cost and supply) on safety and availability of blood, blood products, and tissues; (5) risk communications related to blood transfusion and tissue transplantation; and (6) identification of infectious disease transmission issues for blood, organs, blood stem cells and tissues.

The Committee consists of 23 voting members: there are 14 public members, including the Chair, and nine (9) individuals designated to serve as official representative members of the blood, blood products, tissue and organ professional organizations or business sectors. The public members are selected from state and local organizations, patient advocacy groups, provider organizations, academic researchers, ethicists, physicians, surgeons, scientists, risk communication experts, consumer advocates, legal organizations, and from among communities of persons who are frequent recipients of blood or blood products or who have received tissues or organs.

All ACBTSA members are authorized to receive the prescribed per diem allowance and reimbursement for travel expenses that are incurred to attend meetings and conduct committee-related business, in accordance with Standard Government Travel Regulations. Individuals who are appointed to serve as public members are authorized also to receive a stipend for attending Committee meetings and to carry out other Committee-related business. Individuals who are appointed to serve as representative members for a particular interest group or industry are not authorized to receive a stipend for the performance of these duties.

This announcement is to solicit nominations of qualified candidates to fill two positions in the public member category that will be vacated during the 2013 calendar year.

Nominations

In accordance with the charter, persons nominated for appointment as members of the ACBTSA should be among authorities knowledgeable in blood banking, transfusion medicine, plasma therapies, transfusion and transplantation safety, bioethics, public health economics and/or related disciplines and/or related consumer/patient advocacy. Nominations should be typewritten. The following information should be included in the package of material submitted for each individual being nominated for consideration of appointment: (a) The name, return address, daytime telephone number, and affiliation(s) of the individual being nominated, the basis for the individual's nomination, the nominated individual's area of expertise, and a statement bearing an original signature of the nominated individual that, if appointed, he or she is willing to serve as a member of the committee; (b) the name, return address, and daytime telephone number at which the nominator may be contacted. Organizational nominators must identify a principal contact person in addition to the contact; and (c) a copy of a current curriculum vitae or resume for the nominated individual.

Individuals can nominate themselves for consideration of appointment to the committee. All nominations must include the required information. Incomplete nominations will not be processed for consideration. The letter from the nominator and certification of the nominated individual must bear original signatures; reproduced copies of these signatures are not acceptable.

The Department makes every effort to ensure that the membership of HHS federal advisory committees is fairly balanced in terms of points of view represented and the functions to be performed by the advisory committee. Every effort is made to ensure that the views of women, all ethnic and racial groups, and people with disabilities are represented on HHS federal advisory committees. Therefore, the Department encourages nominations of qualified candidates from these groups. The Department also takes into consideration geographic diversity in the composition of the committee. Appointment to this committee shall be made without discrimination on the basis of age, race, ethnicity, gender, sexual orientation, disability, and cultural, religious, or socioeconomic status.

Individuals who are appointed as public members of federal advisory committees are classified as special government employees (SGEs). SGEs who are appointed to serve as members of federal advisory committees are subject to the ethical standards of conduct for federal employees. Upon entering the position and annually throughout the term of appointment, the public members appointed to the ACBTSA will be required to complete and submit a report of their financial holdings, including information about consultancies and research grants or contracts, so that an ethics analysis can be conducted to ensure that members are not involved in activities in the private sector that may pose potential conflicts of interest for performance of their official duties for the Committee.

Dated: February 15, 2013.
James J. Berger,
Senior Advisor for Blood Policy.

[FR Doc. 2013-04036 Filed 2-20-13; 8:45 am]

BILLING CODE 4150-41-P